DEPARTMENT OF THE INTERIOR

Fish and Wildlife Service

50 CFR Part 17

[Docket No. FWS-R2-ES-2012-0035; 4500030113]

RIN 1018-AY22

Endangered and Threatened Wildlife and Plants; Proposed Endangered Status for the Georgetown Salamander and Salado Salamander

AGENCY: Fish and Wildlife Service, Interior.

ACTION: Proposed rule; notice of availability and reopening of comment period.

SUMMARY: We, the U.S. Fish and Wildlife Service (Service), announce the reopening of the public comment period on our August 22, 2012 (77 FR 50768), proposed listing rule for the Georgetown salamander (Eurycea naufragia) and Salado salamander (Eurycea chisholmensis) under the Endangered Species Act of 1973, as amended. We also announce the availability of the City of Georgetown's final ordinances for water quality and urban development. We are reopening the comment period to allow all interested parties an opportunity to comment simultaneously on the proposed rule and the new city ordinances. Comments previously submitted need not be resubmitted, as they will be fully considered in preparation of the final rule.

DATES: The comment period for the proposed rule published August 22, 2013, at 77 FR 50768, is reopened. The comment period end date is January 22, 2014. We request that comments be submitted by 11:59 p.m. Eastern Time on the closing date.

ADDRESSES: Document availability: You may obtain copies of the City of Georgetown's final ordinances, the proposed rule, the 6-month extension, and other supporting documents on the Internet at http://www.regulations.gov at Docket No. FWS-R2-ES-2012-0035, at http://www.fws.gov/southwest/es/austintexas/ESA_Sp_Salamanders.html, or by mail from the Austin Ecological Services Field Office (see FOR FURTHER INFORMATION CONTACT).

Submitting comments: You may submit written comments by one of the following methods:

(1) Electronically: Go to the Federal eRulemaking Portal: http://www.regulations.gov. In the Search box, enter FWS-R2-ES-2012-0035, which is the docket number for the proposed listing rule. Then, in the Search panel on the left side of the screen, under the Document Type heading, check on the Proposed Rules link to locate this document. You may submit a comment by clicking on “Comment Now!”

(2) By hard copy: Submit by U.S. mail or hand-delivery to: Public Comments Processing, Attn: FWS-R2-ES-2012-0035; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Adam Zerrenner, Field Supervisor, U.S. Fish and Wildlife Service, Austin Ecological Services Field Office, 10711 Burnet Rd, Suite 200, Austin, TX 78758; by telephone 512-490-0057; or by facsimile 512-490-0974. Persons who use a telecommunications device for the deaf (TDD) may call the Federal Information Relay Service (FIRS) at 800-877-8339.

SUPPLEMENTARY INFORMATION:

Background

On August 22, 2012, we published in the Federal Register a proposed rule (77 FR 50768) to list the Austin blind salamander (Eurycea waterlooensis), Georgetown salamander (Eurycea naufragia), Jollyville Plateau salamander (Eurycea tonkawae), and Salado salamander (Eurycea chisholmensis) as endangered species under the Endangered Species Act of 1973, as amended (Act) (16 U.S.C. 1531 et seq.). For a description of previous Federal actions concerning these salamanders, please refer to the proposed rule. That proposal had a 60-day comment period, ending October 22, 2012. We held a public meeting and hearing in Round Rock, Texas, on September 5, 2012, and a second public meeting and hearing in Austin, Texas, on September 6, 2012. On January 25, 2013, we reopened the public comment period on the August 22, 2012, proposed listing and critical habitat designation, announced the availability of a draft economic analysis, and published an amended required determinations section of the proposal (78 FR 5385). On August 20, 2013, we published a final rule listing the Austin blind salamander as endangered and the Jollyville Plateau salamander as threatened (78 FR 51278) and provided notice of extension of our final determination for the Georgetown and Salado salamanders pursuant to section 4(b)(6) of the Act and reopened the comment period (78 FR 51129). That comment period closed on September 19, 2013.

Since that time, the City of Georgetown, Texas, has prepared and finalized ordinances for the Georgetown salamander. All 14 of the known Georgetown salamander locations are within the City of Georgetown's jurisdiction for residential and commercial development. The enacted ordinances are directed at alleviating threats to the Georgetown salamander from urban development by requiring geologic assessments prior to construction, establishing occupied site protections through stream buffers, maintaining water quality through best management practices, developing a water quality management plan for the City of Georgetown, and monitoring occupied spring sites by an adaptive management working group. The Service would like to consider the ordinances in its final listing determination. As such, we are reopening the comment period to allow the public an opportunity to provide comment on the application of the City of Georgetown's ordinances to our determination of status under section 4(a)(1) of the Act, and the likelihood of implementation and effectiveness of the ordinances.

For more detailed information or to obtain copies of the City of Georgetown's new ordinances, go to http://www.regulations.gov and search for Docket Number FWS-R2-ES-2012-0035, http://www.fws.gov/southwest/es/austintexas/ESA_Sp_Salamanders.html, or you may obtain copies by mail from the Austin Ecological Field Services Office (see FOR FURTHER INFORMATION CONTACT).

Public Comments

We will accept written comments and information during this reopened comment period on our proposed listing for the Georgetown and Salado salamanders that was published in the Federal Register on August 22, 2012 (77 FR 50768). We will consider information and recommendations from all interested parties. We intend that any final action resulting from this proposal be as accurate as possible and based on the best available scientific and commercial data. Therefore, we request comments or information from other concerned governmental agencies, Native American tribes, the scientific community, industry, general public, and other interested parties. We particularly seek comments regarding application of the City of Georgetown's ordinances to our determination of status under section 4(a)(1) of the Act, particularly comments or information to help us assess the certainty that the ordinances will be effective in conserving the Georgetown salamander and will be implemented.

If you previously submitted comments or information on the proposed rule, please do not resubmit them. We have incorporated them into the public record, and we will fully consider them in the preparation of our final determination. Our final determination concerning this proposed listing will take into consideration all written comments and any additional information we received.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R2-ES-2012-0035, or by appointment, during normal business hours, at the U.S. Fish and Wildlife Service, Austin Ecological Services Field Office (see FOR FURTHER INFORMATION CONTACT). You may obtain copies of the proposed rule on the Internet at http://www.regulations.gov at Docket No. FWS-R2-ES-2012-0035, or by mail from the Austin Ecological Services Field Office (see FOR FURTHER INFORMATION CONTACT).

Authority

The authority for this action is the Endangered Species Act of 1973, as amended (16 U.S.C. 1531 et seq.).

Dated: December 30, 2013.
Stephen Guertin,
Acting Director, U.S. Fish and Wildlife Service.

[FR Doc. 2014-00034 Filed 1-6-14; 8:45 am]

BILLING CODE 4310-55-P